ENVIRONMENTAL PROTECTION AGENCY

40 CFR Part 52

[EPA-R03-OAR-2015-0404; FRL-9934-92-Region 3]

Approval and Promulgation of Air Quality Implementation Plans; Maryland; Adoption of Control Techniques Guidelines for Metal Furniture Coatings and Miscellaneous Metal Parts Coatings

AGENCY: Environmental Protection Agency (EPA).

ACTION: Final rule.

SUMMARY: The Environmental Protection Agency (EPA) is approving a State Implementation Plan (SIP) revision submitted by the State of Maryland. The revision includes amendments to Maryland's regulation for the control of volatile organic compounds (VOC) and meets the requirement to adopt reasonably available control technology (RACT) for sources covered by EPA's Control Techniques Guidelines (CTG) standards for coatings for metal furniture and miscellaneous metal parts. These amendments will reduce emissions of VOC from these source categories and assist Maryland to attain and maintain the national ambient air quality standard (NAAQS) for ozone. EPA is approving this revision to reduce VOC emissions in accordance with the requirements of the Clean Air Act (CAA).

DATES: This final rule is effective on November 2, 2015.

ADDRESSES: EPA has established a docket for this action under Docket ID Number EPA-R03-OAR-2015-0404. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Ellen Schmitt, (215) 814-5787, or by email at schmitt.ellen@epa.gov.

SUPPLEMENTARY INFORMATION:

I. Background

On July 17, 2015 (80 FR 42459), EPA published a notice of proposed rulemaking (NPR) for the State of Maryland, proposing approval of Maryland's SIP submittal which includes amendments to the State's regulation for the control of VOCs and adopts the requirements of EPA's CTGs for the coating of metal furniture and miscellaneous metal parts, as RACT for these source categories. The formal SIP revision (#14-02) was submitted by the State of Maryland on July 28, 2014.

Section 172(c)(1) of the CAA provides that SIPs for nonattainment areas must include reasonably available control measures (RACM), including RACT for sources of emissions. Section 182(b)(2)(A) provides that for certain nonattainment areas, states must revise their SIPs to include RACT for sources of VOC emissions covered by a CTG document issued after November 15, 1990 and prior to the area's date of attainment. States can follow the CTGs and adopt state regulations to implement the recommendations contained therein, or they can adopt alternative approaches. In either case, states must submit their RACT rules to EPA for review and approval as part of the SIP process.

In September 2007, EPA published a new CTG for Metal Furniture Coatings (EPA-453/R-07-005), and in September 2008, EPA published a new CTG for Miscellaneous Metal and Plastic Parts Coatings (EPA-453/R-08-003). These CTGs discuss the nature of VOC emissions from these industries, the available control technologies for addressing such emissions, the cost of available control options, and other information. EPA developed new CTGs for these industries after reviewing existing state and local VOC emission reduction approaches, new source performance standards (NSPS), previously issued CTGs, and national emission standards for hazardous air pollutants (NESHAP) for these source categories.

II. Summary of SIP Revision

On July 28, 2014, the State of Maryland through the Maryland Department of the Environment (MDE) submitted to EPA a SIP revision (#14-02) concerning the adoption of the emission limits for metal furniture coatings found in the Metal Furniture Coatings CTG and miscellaneous metal parts coatings found in the Miscellaneous Metal and Plastic Parts Coatings CTG. Maryland has adopted EPA's CTG standards for metal furniture and miscellaneous metal parts coating processes by amending Regulation .08 under COMAR 26.11.19, Volatile Organic Compounds from Specific Sources. Specifically, this revision amends the existing regulation in section 26.11.19.08 by adding coating standards for both metal furniture and miscellaneous metal parts that are either equal to or more stringent than the coating standards found in EPA's CTGs. Additionally, new definitions and application methods were added to COMAR section 26.11.19.08. A detailed summary of Maryland's amendments and EPA's review of and rationale for approving this SIP revision submittal may be found in the NPR and Technical Support Document (TSD) for this rulemaking action which is available online at www.regulations.gov, Docket number EPA-R03-OAR-2015-0404.

III. Final Action

EPA is approving the State of Maryland's July 28, 2014 SIP submittal as a revision to the Maryland SIP. The SIP submittal being approved in this action consists of amendments to Maryland's regulation for the control of VOCs and adopts the requirements of EPA's CTGs for the coating of metal furniture and miscellaneous metal parts, as RACT for these source categories.

IV. Incorporation by Reference

In this rulemaking action, the EPA is finalizing regulatory text that includes incorporation by reference. In accordance with requirements of 1 CFR 51.5, the EPA is finalizing the incorporation by reference of the MDE rules regarding control of VOC emissions from metal furniture and miscellaneous metal parts coatings as described in Section II of this rulemaking action. The EPA has made, and will continue to make, these documents generally available electronically through www.regulations.gov and/or in hard copy at the appropriate EPA office (see the ADDRESSES section of this preamble for more information).

V. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by November 30, 2015. Filing a petition for reconsideration by the Administrator of this final rule does not affect the finality of this action for the purposes of judicial review nor does it extend the time within which a petition for judicial review may be filed, and shall not postpone the effectiveness of such rule or action. This action to approve amendments of Maryland's VOC control regulation into Maryland's SIP may not be challenged later in proceedings to enforce its requirements. (See section 307(b)(2)).

List of Subjects in 40 CFR Part 52

Environmental protection, Air pollution control, Incorporation by reference, Ozone, Reporting and recordkeeping requirements, Volatile organic compounds.

Dated: September 17, 2015.
Shawn M. Garvin,
Regional Administrator, Region III.

40 CFR part 52 is amended as follows:

PART 52—APPROVAL AND PROMULGATION OF IMPLEMENTATION PLANS

1. The authority citation for part 52 continues to read as follows:

Authority: 42 U.S.C. 7401 et seq.

Subpart V—Maryland

2. In § 52.1070, the table in paragraph (c) is amended by revising the entry for “26.11.19.08” to read as follows:

§ 52.1070 Identification of plan.

* * * * *

(c) * * *

EPA-Approved Regulations, Technical Memoranda, and Statutes in the Maryland SIP
Code of Maryland Administrative Regulations (COMAR) citation | Title/Subject | State effective date | EPA approval date | Additional explanation/citation at 40 CFR 52.1100
* * * * * * *
26.11.19 Volatile Organic Compounds From Specific Processes
* * * * * * *
26.11.19.08 | Metal Parts and Products Coating | 5/26/14 | 10/1/15 [Insert Federal Register citation] | Amends section title. Adds definitions.
|  |  |  | Section 26.11.19.08(B), Emission Standards, removed.
|  |  |  | Section 26.11.19.08(B), Incorporation by Reference, added.
|  |  |  | Section 26.11.19.08(C), Applicability and Exemptions, added.
|  |  |  | Section 26.11.19.08(D), Emission Standards, added.
* * * * * * *

* * * * *

[FR Doc. 2015-24862 Filed 9-30-15; 8:45 am]

BILLING CODE 6560-50-P